DEPARTMENT OF HEALTH AND HUMAN SERVICES

National Institutes of Health

National Institute on Alcohol Abuse and Alcoholism; Notice of Closed Meeting

Pursuant to section 10(d) of the Federal Advisory Committee Act, as amended (5 U.S.C. Appendix 2), notice is hereby given of the following meetings.

The meetings will be closed to the public in accordance with the provisions set forth in sections 552b(c)(4) and 552(c)(6), Title 5 U.S.C., as amended. The contract proposals and the discussions could disclose confidential trade secrets or commercial property such as patentable material, and personal information concerning individuals associated with the contract proposals, the disclosure of which would constitute a clearly unwarranted invasion of personal privacy.

Name of Committee: National Institute on Alcohol Abuse and Alcoholism Special Emphasis Panel Phase II—Topic 017: Transdermal, Non-Invasive Monitoring of Medication Ingestion.

Date: June 12, 2003.

Time: 10 a.m. to 12 p.m.

Agenda: To review and evaluate contact proposals.

Place: NIAA, Wiilco Bldg. Rm 409, 6000 Executive Blvd., Bethesda, MD 20892 (Telephone Conference Call).

Contact Person: Sathasiva B. Kandasamy, PhD., Scientific Review Administrator, Extramural Project Review Branch, Office of Scientific Affair, National Institute on Alcohol, Abuse and Alcoholism, 6000 Executive Blvd, Suite 409, Bethesda, MD 20892-7003 (301) 443-2926, skandasa@mail.nih.gov.

Name of Committee: National Institute on Alcohol Abuse and Alcoholism Special Emphasis Panel RFA AA03-009 Alcohol Abuse and HIVE/AIDS in Resource Poor Societies.

Date: August 12, 2003.

Time: 8 am to 6 pm.

Agenda: To review and evaluate grant applications.

Place: Double Tree, 1750 Rockville Pike, Rockville, MD 20852.

Contact Person: Mahadev Murthy, PhD., Scientific Review Administrator, Extramural Project Review Branch, Office of Scientific Affair, National Institute on Alcohol Abuse and Alcoholism, 6000 Executive Blvd., Suite 409, Bethesda, MD 20892-7003, (301) 443-2860.

(Catalogue of Federal Domestic Assistance Program Nos. 93.271, Alcohol Research Career Development Awards for Scientists and Clinicians; 93.272, Alcohol National Research Service Awards for Research Training; 93.273, Alcohol Research Programs; 93.891, Alcohol Research Center Grants, National Institutes of Health, HSS)

Dated: May 20, 2003.
LaVerne Y. Stringfield,
Director, Office of Federal Advisory Committee Policy.

[FR Doc. 03-13349 Filed 5-28-03; 8:45 am]

BILLING CODE 4140-01-M